NUCLEAR REGULATORY COMMISSION

[Docket No. NRC-2010-0377]

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on December 23, 2010.

1. Type of submission, new, revision, or extension: Extension.

2. The title of the information collection: NUREG/BR-0238, Materials Annual Fee Billing Handbook; NRC Form 628, “Financial EDI Authorization;” NUREG/BR-0254, Payment Methods; and NRC Form 629, “Authorization for Payment by Credit Card.”

3. Current OMB approval number: 3150-0190.

4. The form number if applicable: NRC Form 628, “Financial EDI Authorization” and NRC Form 629, “Authorization for Payment by Credit Card.

5. How often the collection is required: On occasion (as needed to pay invoices).

6. Who will be required or asked to report: Anyone doing business with the Nuclear Regulatory Commission including licensees, applicants and individuals who are required to pay a fee for inspections and licenses.

7. An estimate of the number of annual responses: 583 (11 for NRC form 628 and 572 for NRC form 629 and NUREG/BR-0254).

8. The estimated number of annual respondents: 583 (11 for NRC form 628 and 572 for NRC form 629 and NUREG/BR-0254).

9. An estimate of the total number of hours needed annually to complete the requirement or request: 47 hours (.9 hour for NRC form 628 and 46 hours for NRC form 629 and NUREG/BR-0254).

10. Abstract: The U.S. Department of the Treasury encourages the public to pay monies owed the government through use of the Automated Clearinghouse Network and credit cards. These two methods of payment are used by licensees, applicants, and individuals to pay civil penalties, full cost licensing fees, and inspection fees to the NRC.

The public may examine and have copied for a fee publicly available documents, including the final supporting statement, at the NRC's Public Document Room, Room O-1F21, One White Flint North, 11555 Rockville Pike, Rockville, Maryland 20852. OMB clearance requests are available at the NRC worldwide Web site: http://www.nrc.gov/public-involve/doc-comment/omb/. The document will be available on the NRC home page site for 60 days after the signature date of this notice.

Comments and questions should be directed to the OMB reviewer listed below by May 27, 2011. Comments received after this date will be considered if it is practical to do so, but assurance of consideration cannot be given to comments received after this date.

Christine J. Kymn, Desk Officer, Office of Information and Regulatory Affairs (3150-0190), NEOB-10202, Office of Management and Budget, Washington, DC 20503.

Comments can also be e-mailed to Christine_J._Kymn@omb.eop.gov or submitted by telephone at 202-395-4638.

The NRC Clearance Officer is Tremaine Donnell, 301-415-6258.

Dated at Rockville, Maryland, this 21st day of April, 2011.
For the Nuclear Regulatory Commission.
Tremaine Donnell,
NRC Clearance Officer, Office of Information Services.

[FR Doc. 2011-10162 Filed 4-26-11; 8:45 am]

BILLING CODE 7590-01-P